DEPARTMENT OF COMMERCE

National Oceanic and Atmospheric Administration

50 CFR Part 648

[Docket No. 181010932-8999-01]

RIN 0648-XG562

Fisheries of the Northeastern United States; Atlantic Bluefish Fishery; 2019 Bluefish Specifications

AGENCY: National Marine Fisheries Service (NMFS), National Oceanic and Atmospheric Administration (NOAA), Commerce.

ACTION: Proposed rule; request for comments.

SUMMARY: NMFS proposes specifications for the 2019 Atlantic bluefish fishery, as recommended by the Mid-Atlantic Fishery Management Council. This action is necessary to comply with the implementing regulations of the Bluefish Fishery Management Plan that require NMFS to publish specifications for the fishery after providing the opportunity for public comment. The proposed specifications are intended to establish allowable harvest levels for the stock that will prevent overfishing while allowing optimum yield, consistent with the Magnuson-Stevens Fishery Conservation and Management Act and the Bluefish Fishery Management Plan. This action also informs the public of the proposed fishery specifications, and provides an opportunity for comment.

DATES: Comments must be received by January 10, 2019.

ADDRESSES: You may submit comments on this document, identified by NOAA-NMFS-2018-0127, by either of the following methods:

Electronic Submission: Submit all electronic public comments via the Federal e-Rulemaking Portal.

1. Go to www.regulations.gov/#!docketDetail;D=NOAA-NMFS-2018-0127,

2. Click the “Comment Now!” icon, complete the required fields, and

3. Enter or attach your comments.

—OR—

Mail: Submit written comments to Michael Pentony, Regional Administrator, National Marine Fisheries Service, 55 Great Republic Drive, Gloucester, MA 01930. Mark the outside of the envelope: “Comments on the Proposed Rule for Bluefish Specifications.”

Instructions: Comments sent by any other method, to any other address or individual, or received after the end of the comment period, may not be considered by NMFS. All comments received are part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

Copies of the Supplemental Information Report (SIR) prepared for this action and other supporting documents for the proposed specifications are available upon request from Dr. Christopher M. Moore, Executive Director, Mid-Atlantic Fishery Management Council, Suite 201, 800 N State Street, Dover, DE 19901. These documents are also accessible via the internet at http://www.mafmc.org.

FOR FURTHER INFORMATION CONTACT: Cynthia Ferrio, Fishery Management Specialist, (978) 281-9180.

SUPPLEMENTARY INFORMATION:

Background

The Mid-Atlantic Fishery Management Council and the Atlantic States Marine Fisheries Commission jointly manage the Atlantic Bluefish Fishery Management Plan (FMP). The FMP requires the specification of the acceptable biological catch (ABC), annual catch limit (ACL), annual catch targets (ACT), commercial quotas, recreational harvest limit, and other management measures, for up to three years at a time. This action proposes specifications for the bluefish fishery for the 2019 fishing year.

In 2015, the 60th Northeast Stock Assessment Workshop concluded that the Atlantic bluefish stock is not overfished, and overfishing is not occurring. The most recent data update (2018) showed slight declines in biomass after 2016, but no change in stock status from the 2015 benchmark assessment. Based on this best available scientific information, the Council's Scientific and Statistical Committee (SSC) recommended that specifications for the 2019 bluefish fishery remain unchanged from the 2018 specifications provided in the August 4, 2016, final rule (81 FR 26267), as corrected in the September 27, 2016, final rule (81 FR 66197). The SSC found no compelling reason to change the overfishing limit, ABC, or subsequent catch limits and targets. The Council's Bluefish Monitoring Committee (MC) also made status quo recommendations following their 2018 meeting, consistent with the SSC.

The Bluefish FMP has a prescriptive process for deriving specifications from the ABC. The FMP sets the ACL equal to the ABC, and there is historically no reduction due to management uncertainty because of persistent under-harvest of available catch limits. The ACL is then divided between the commercial and recreational sectors by allocating 17 percent to the commercial ACT and 83 percent to the recreational ACT. Discards are then subtracted from each sector to calculate each sector's TAL. Commercial discards are assumed to be negligible and recreational discards are projected using a terminal year estimate derived from Marine Recreational Information Program (MRIP) data. If the recreational fishery is not projected to land its harvest limit, then quota may be transferred from the recreational to the commercial sector increasing the resulting commercial quota up to 10.5 million pounds (4,763 mt). The Council may also specify a research set-aside (RSA) quota of up to 3 percent of the TAL; however, no RSA quota has been allocated since 2015. The final commercial quota is then allocated to the coastal states from Maine to Florida based on percent shares specified in the FMP.

The Council and the Commission's Bluefish Management Board met jointly in August 2018 to consider the SSC and MC's recommendations and receive public comments. The Council and Board also voted to recommend largely status quo specifications for the 2019 bluefish fishery. Additionally, the Council recommended that the 2017 estimate of recreational catch be used as the basis for recreational landings projections and discards. They also recommended that the sector quota transfer from the recreational fishery to the commercial fishery be 4.0 million pounds (1,814 mt), rather than the maximum allowable transfer of 6.1 million pounds (2,767 mt). The Council stated that the resulting final quotas more accurately represent the current sector-based allocations and the overall goals of the Bluefish FMP. This will result in slightly different final commercial quotas and recreational harvest limits than 2018, so proposed specifications are not entirely status quo. The Council and Board did not recommend changes to any other regulations in place for bluefish; therefore, all other fishery management measures in place would remain unchanged for the 2019 fishing year.

The bluefish stock will undergo an operational assessment in early 2019. The assessment is designed to incorporate updated MRIP information. It is expected the Council and Commission will use the assessment results to set specifications for the 2020-2022 fishing years.

Proposed Specifications

A summary of the Council's recommended specifications is shown below in Table 1.

Table 1—Summary of Current 2018 and Proposed 2019 Bluefish Specifications
| Current 2018 specifications: million lb | Current 2018 specifications: metric tons | Proposed 2019 specifications: million lb | Proposed 2019 specifications: metric tons
Overfishing Limit | 27.97 | 12,688 | 27.97 | 12,688
ABC = ACL | 21.81 | 9,895 | 21.81 | 9,895
Commercial ACT | 3.71 | 1,682 | 3.71 | 1,682
Recreational ACT | 18.11 | 8,213 | 18.11 | 8,213
Commercial TAL | 3.71 | 1,682 | 3.71 | 1,682
Recreational TAL | 15.11 | 6,857 | 15.62 | 7,083
Sector Transfer | 3.54 | 1,604 | 4.00 | 1,814
Commercial Quota | 7.24 | 3,286 | 7.71 | 3,497
Recreational Harvest Limit | 11.58 | 5,253 | 11.62 | 5,271

These recommendations are largely status quo compared to the current 2018 specifications, with only minor adjustments to the final commercial quota and recreational harvest limit to account for most recent recreational catch and an adjusted sector transfer. The Council and Board did not recommend any changes to the recreational fishing measures for bluefish, so the possession limit of up to 15 fish per person would remain in place for 2019.

Once the final commercial quota is determined, state commercial quota from Maine through Florida are allocated based on specified percentages defined in the FMP. The proposed commercial state allocations for 2019 based on the Council-recommended commercial quota is shown below in Table 2. No states exceeded their state allocated quota in 2018; therefore, no accountability measures need to be implemented for the 2019 fishing year.

Table 2—Proposed 2019 Bluefish State Commercial Quota Allocations
State | Percent share | Proposed quota (lb) | Proposed quota (mt)
Maine | 0.67 | 51,538 | 23.38
New Hampshire | 0.41 | 31,956 | 14.49
Massachusetts | 6.72 | 517,828 | 234.88
Rhode Island | 6.81 | 524,874 | 238.08
Connecticut | 1.27 | 97,626 | 44.28
New York | 10.39 | 800,645 | 363.17
New Jersey | 14.82 | 1,142,264 | 518.12
Delaware | 1.88 | 144,801 | 65.68
Maryland | 3.00 | 231,426 | 104.97
Virginia | 11.88 | 915,857 | 415.43
North Carolina | 32.06 | 2,471,746 | 1121.17
South Carolina | 0.04 | 2,714 | 1.23
Georgia | 0.01 | 732 | 0.33
Florida | 10.06 | 775,558 | 351.79
Total | 100.00 | 7,709,565 | 3,497.00

The current 2018 specifications are in effect until December 31, 2018. After this date, the bluefish fishery will function without a quota in 2019 until these proposed specifications are finalized. Therefore, it is important to implement final specifications as quickly as possible into the fishing year in January 2019 to minimize time without functional quotas. To accomplish this, NMFS is requesting public comments by January 10, 2019. Please see the DATES section for submission instructions.

Classification

Pursuant to section 304(b)(1)(A) of the Magnuson Stevens Fishery Conservation and Management Act (Magnuson-Stevens Act), the NMFS Assistant Administrator has determined that this proposed rule is consistent with the Bluefish FMP, other provisions of the Magnuson-Stevens Act, and other applicable law, subject to further consideration after public comment.

This proposed rule is exempt from review under Executive Order 12866.

The Chief Counsel for Regulation of the Department of Commerce certified to the Chief Counsel for Advocacy of the Small Business Administration that this proposed rule, if adopted, would not have a significant economic impact on a substantial number of small entities.

The Council conducted an evaluation of the potential socioeconomic impacts of the proposed measures in conjunction with a SIR. Because no regulatory changes are proposed that would affect the bluefish fishery, they are not considered in the evaluation. The proposed measures would maintain the existing 2018 bluefish catch specifications and management measures with only minor adjustments to the final recreational TAL and resulting specifications.

According to the commercial ownership database, 703 affiliate firms landed bluefish commercially (with a Federal commercial and/or charter/party permit) during the 2015-2017 period. Of the 703 affiliate firms categorized as commercial fishing operations, 698 are categorized as small business and 5 categorized as large business. Because the Council-recommended specifications are largely status quo, the proposed action would have no impact on the way the fishery operates or affect small entities. These measures are expected to provide similar fishing opportunities in 2019 when compared to 2018 (proxy for base year 2017). As such, revenue changes are not expected in 2019 due to these specifications.

Analyses indicate that the proposed action is not expected to substantially change fishing effort or the risk of overfishing, prices/revenues, or fishery behavior. The proposed specifications are intended to maintain stability in the fishery for all regulated entities, while maintaining the healthy stock condition.

There are no new reporting or recordkeeping requirements contained in this action.

Authority: 16 U.S.C. 1801 et seq.

Dated: December 18, 2018.
Donna S. Wieting,
Acting Deputy Assistant Administrator for Regulatory Programs, National Marine Fisheries Service.

[FR Doc. 2018-27878 Filed 12-21-18; 8:45 am]

BILLING CODE 3510-22-P